DEPARTMENT OF DEFENSE

Department of the Navy

Notice of Intent To Grant Exclusive Patent License; NaturalNano, Inc.

AGENCY: Department of the Navy, DoD.

ACTION: Notice.

SUMMARY: The Department of the Navy hereby gives notice of its intent to grant to NaturalNano, Inc., a revocable, nonassignable, exclusive license to practice in the fields of use in Electromagnetic Shielding; Strength Enhancement; Cosmetics; Odor Masking; Eluting Implantable Medical Devices; Visibility Enhanced Implantable Medical Devices; Eluting Bandages; Local Drug Delivery; Agricultural; Vertebrate Aversion; Veterinary; Ink and Paper; Electronics; Fabrics and Textiles; all other fields of use specifically excluding: Halloysite in Building Materials and Petroleum; and Paint in the United States and certain foreign countries, the Government-owned inventions described in U.S. Patent No. 6,913,828: Production of Hollow Metal Microcylinders from Lipids, Navy Case No. 83,603.//U.S. Patent No. 6,936,215: Processing Methodology for the Rational Control of Bilayer Numbers Leading to High Efficiency Production of Lipid Microtubules, Navy Case No. 77,839.//U.S. Patent Application Serial No. 11/229,433: Novel Biodegradable Biofouling Control Coating and Method of Formulation, Navy Case No. 96,826 and any continuations, divisionals or re-issues thereof.

DATES: Anyone wishing to object to the grant of this license must file written objections along with supporting evidence, if any, not later than July 3, 2007.

ADDRESSES: Written objections are to be filed with the Naval Research Laboratory, Code 1004, 4555 Overlook Avenue, SW., Washington, DC 20375-5320.

FOR FURTHER INFORMATION CONTACT: Dr. Rita Manak, Head, Technology Transfer Office, NRL Code 1004, 4555 Overlook Avenue, SW., Washington, DC 20375-5320, telephone 202-767-3083. Due to U.S. Postal delays, please fax 202-404-7920, e-mail: techtran@utopia.nrl.navy.mil or use courier delivery to expedite response.

(Authority: 35 U.S.C. 207, 37 CFR Part 404.)
Dated: June 11, 2007.
L. R. Almand,
Office of the Judge Advocate General, Administrative Law Division, Federal Register Liaison Officer.

[FR Doc. E7-11669 Filed 6-15-07; 8:45 am]

BILLING CODE 3810-FF-P